DEPARTMENT OF EDUCATION

34 CFR Part 75

[Docket ID ED-2025-OS-0118]

Proposed Priority and Definitions—Secretary's Supplemental Priority and Definitions on Advancing Artificial Intelligence in Education

AGENCY: U.S. Department of Education.

ACTION: Proposed priority and definitions.

SUMMARY: The Secretary proposes a priority and related definitions for use in currently authorized discretionary grant programs, or such programs that may be authorized in the future. The Secretary may choose to use the entire priority for a grant program or a particular competition or may use one or more of the priority's component parts. This priority and definitions augment the initial set of three Secretary's Supplemental Priorities on Evidence-Based Literacy, Educational Choice, and Returning Education to the States published as proposed priorities on May 21, 2025 (90 FR 21710).

DATES: We must receive your comments on or before August 20, 2025.

ADDRESSES: Comments must be submitted via the Federal eRulemaking Portal at Regulations.gov. See the SUPPLEMENTARY INFORMATION section for more details.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Invitation to Comment: We invite you to submit comments regarding the proposed priority and definitions. Comments must be submitted via the Federal eRulemaking Portal at Regulations.gov. However, if you require an accommodation or cannot otherwise submit your comments via Regulations.gov, please contact the program contact person listed under FOR FURTHER INFORMATION CONTACT. The Department will not accept comments by fax or by email, or comments submitted after the comment period closes. To ensure that the Department does not receive duplicate copies, please submit your comments only once. Additionally, please include the Docket ID at the top of your comments.

Federal eRulemaking Portal: Go to www.Regulations.gov to submit your comments electronically. Information on using Regulations.gov, including instructions for accessing agency documents, submitting comments, and viewing the docket, is available on the site under “FAQ.” Also included on Regulations.gov is a commenter checklist that addresses how to submit effective comments.

In instances where individual submissions appear to be duplicates or near duplicates of comments prepared as part of a writing campaign, the Department may choose to post to Regulations.gov one representative sample comment along with the total comment count for that campaign. The Department will consider these comments along with all other comments received. In instances where individual submissions are bundled together (submitted as a single document or packaged together), the Department will post all of the substantive comments included in the submissions along with the total comment count for that document or package to Regulations.gov.

Comments containing personal threats will not be posted to Regulations.gov and may be referred to the appropriate authorities.

During and after the comment period, you may inspect public comments about the proposed priority and definitions by accessing Regulations.gov. To inspect comments in person, please contact the person listed under FOR FURTHER INFORMATION CONTACT.

Privacy Note: The Department's policy is to generally make all comments received from members of the public available for public viewing in their entirety on the Federal eRulemaking Portal at Regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 1221e-3, 3474, 6301 et seq., 5 U.S.C. 311 et seq.

Proposed Priority: This document contains one proposed priority.

Proposed Priority: Advancing Artificial Intelligence in Education

Background: Artificial Intelligence (AI) is rapidly reshaping the future of education, work, learning, and daily life. As AI becomes more integrated into the tools and systems that shape elementary, secondary, and postsecondary education, it is increasingly important for students to develop AI literacy. A strong foundation in AI literacy will help ensure students are prepared to navigate and contribute to a society where these technologies play a growing role in decision-making, communication, innovation, and career readiness.

Beyond serving as a subject of study, AI also offers powerful opportunities to enhance teaching and learning. When used effectively, AI tools have the potential to support personalized instruction, increase classroom engagement, and improve student outcomes. Educators are beginning to use AI-powered platforms to analyze student progress, identify learning gaps, and tailor support to individual needs. This work is only the beginning.

To move from passive users of AI to active creators and innovators, students must also understand foundational computer science. Exposure to core concepts such as algorithms, data analysis, and computational thinking can deepen their understanding of how AI systems function. Incorporating computer science where appropriate can reinforce efforts to build meaningful AI literacy in educational settings.

This priority is designed to support efforts that expand student understanding of AI and its real-world applications. The priority will also promote the appropriate integration of AI into education, providing AI training for educators, and fostering early exposure to AI concepts and technology to develop an AI-ready workforce and the next generation of American AI innovators.

Proposed Priority: Projects or proposals to do one or more of the following:

(a) Expand the understanding of artificial intelligence through one or more of the following:

(i) Support the integration of AI literacy skills and concepts into teaching and learning practices to improve educational outcomes for students, including how to detect AI generated disinformation or misinformation online;

(ii) Expand offerings of AI and computer science education in K-12 education;

(iii) Expand offerings of AI and computer science courses as part of an institution of higher education's general education and/or core curriculum;

(iv) Embed AI and computer science into an institution of higher education's general preservice or in-service teacher professional development or teacher preparation programs;

(v) Provide professional development for educators on the integration of the fundamentals of AI into their respective subject areas;

(vi) Provide professional development in foundational computer science and AI, preparing educators to effectively teach AI in stand-alone computer science and other relevant courses, including instruction about how to use AI responsibly;

(vii) Partner with State educational agencies or local educational agencies to encourage the offering of dual-enrollment course opportunities to earn postsecondary credentials and industry-recognized credentials in AI coursework concurrent with high school education;

(viii) Create opportunities for high school students through the development or expansion of AI courses and career-relevant, in-demand certification programs; or

(ix) Support dissemination of appropriate methods of integrating AI into education.

(x) Build evidence of appropriate methods of integrating AI into education.

(b) Expand the appropriate use of artificial intelligence technology in education through one or more of the following:

(i) Use AI to support K-12 or postsecondary instruction, supplemental learning, or other assistance or resources to students who are gifted and talented (as defined in 20 U.S.C. 7801(27)), or those who are otherwise in need of accelerated or other advanced learning opportunities;

(ii) Use AI to support K-12 or postsecondary instruction, supplemental learning, or other assistance or resources to students who are below grade level, in need of remedial or developmental education, struggling to graduate with a regular credential from their education program, or otherwise in need of additional assistance to complete their program of study;

(iii) Use AI to support early intervention, K-12, or postsecondary instruction or services for children and students with disabilities and their families;

(iv) Integrate AI-driven tools into classrooms to personalize learning, improve student outcomes, and support differentiated instruction. This integration may include, but is not limited to, adaptive learning technologies, virtual teaching assistants, tutoring, and data analytics tools to support student progress;

(v) Provide resources and support for the use of AI in teaching and/or tutoring in an education program or teacher training program;

(vi) Provide resources and support for the use of AI in teacher preparation programs;

(vii) Use AI technology to improve teacher training and evaluation;

(viii) Promote efficiency in classroom and school operations through the application of AI technologies that reduce time-intensive administrative tasks; or

(ix) Use AI technology to provide high-quality instructional resources, high-impact tutoring, and college and career pathway exploration, advising, and navigation to improve educational outcomes.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

Artificial intelligence (AI) has the meaning set forth in 15 U.S.C. 9401(3).

Artificial intelligence (AI) literacy means the technical knowledge, durable skills, and future ready attitudes required to thrive in a world influenced by AI. It enables learners to engage, create with, manage, and design AI, while critically evaluating its benefits, risks, and implications.

Computer science means the study of computers and algorithmic processes, including their principles, their hardware and software designs, theories, computational thinking, coding, analytics, applications, machine learning, and Artificial Intelligence (AI).

Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world.

Computer science does not involve using computers for everyday tasks, such as browsing the internet or using tools like word processors, spreadsheets, or presentation software. Instead, it focuses on creating and developing technology, not just utilizing it.

Final Priority and Definitions: The Department will announce the final priority and definitions in a document in the Federal Register. We will determine the final priority and definitions after considering responses to the proposed priority and definitions and other information available to the Department. This document does not preclude us from proposing additional priorities, requirements, or definitions, subject to meeting applicable rulemaking requirements.

Note: This document does not solicit applications. In any year in which we choose to use the final priority and definitions, we invite applications through a notice in the Federal Register.

Executive Orders 12866, 13563, and 14192

Regulatory Impact Analysis

This proposed regulatory action is not a significant regulatory action subject to review by the Office of Management and Budget under section 3(f) of Executive Order 12866. Since this regulatory action is not a significant regulatory action under section 3(f) of Executive Order 12866, it is not considered an “Executive Order 14192 regulatory action.”

We have also reviewed this proposed regulatory action under Executive Order 13563. We are issuing the proposed priority and definitions only on a reasoned determination that their benefits would justify their minimal costs. The Department believes that this regulatory action is consistent with the principles in Executive Order 13563.

We also have determined that this regulatory action would not unduly interfere with State, local, and Tribal governments in the exercise of their governmental functions.

In accordance with these Executive Orders, the Department has assessed the potential costs and benefits, both quantitative and qualitative, of this regulatory action. The potential costs are those resulting from statutory requirements and those we have determined are necessary for administering the Department's programs and activities.

Discussion of Costs and Benefits

The proposed priority would impose no or minimal costs on entities that receive discretionary grant award funds from the Department. Additionally, the benefits of implementing the proposed priority outweigh any associated costs, to the extent these de minimis costs even exist, because the proposed priority would result in higher quality grant application submissions.

Application submission and participation in competitive grant programs that might use the proposed priority and definitions is voluntary. We believe, based on the Department's administrative experience, that entities preparing an application would not need to expend more resources than they otherwise would have in the absence of this proposed priority. Because the costs of carrying out activities would be paid for with program funds, the costs of implementation would not be a burden for any eligible applicants that earn a grant award, including small entities. We invite the public to comment on this discussion of estimated costs and benefits.

Intergovernmental Review: This action is subject to Executive Order 12372 and the regulations in 34 CFR part 79.

This document provides early notification of our specific plans and actions for this program.

Regulatory Flexibility Act Certification

This section considers the effects that the final regulations may have on small entities in the educational sector as required by the Regulatory Flexibility Act, 5 U.S.C. 601 et seq. The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act: The proposed priority and definitions do not contain information collection requirements or affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Signing Authority

This document of the U.S. Department of Education was signed on July 17, 2025, by Linda McMahon, Secretary of Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-13650 Filed 7-18-25; 8:45 am]

BILLING CODE 4000-01-P